DEPARTMENT OF JUSTICE

Notice of Lodging of Proposed Consent Decree Under the Clean Air Act

On March 23, 2015, the Department of Justice lodged a proposed Consent Decree with the United States District Court for the Western District of Oklahoma in the lawsuit entitled United States et al. v. Continental Carbon Company, Civil Case. No. 5:15-cv-00290-F (W.D. Okla.).

In this civil enforcement action under the federal Clean Air Act (“Act”), the United States and the States of Alabama and Oklahoma allege that Continental Carbon Company (“Defendant”), failed to comply with certain requirements of the Act intended to protect air quality at three Carbon black manufacturing facilities in Phenix City, Alabama, Ponca City, Oklahoma, and Sunray, Texas. The complaint seeks injunctive relief and civil penalties for violations of the Clean Air Act's Prevention of Significant Deterioration (“PSD”) provisions, 42 U.S.C. 7470-92, the Act's Title V permit provisions (“Title V”), 42 U.S.C. 7661a-76661f, and various Clean Air Act implementing regulations. The complaint alleges that Defendant failed to obtain appropriate permits and failed to install and operate required pollution control devices to reduce emissions of sulfur dioxide (“SO2”) and/or nitrogen oxides (“NOX”) at the Phenix City, Ponca City, and Sunray facilities.

The proposed Consent Decree would resolve violations for certain provisions of the Act at the three facilities, and would require the Defendant to reduce harmful SO2, NOX, and particulate matter emissions through the installation and operation of pollution controls. The Defendant will also spend $550,000 to fund environmental mitigation projects that will further reduce emissions and benefit communities adversely affected by the pollution from the facilities, and pay a civil penalty of $650,000.

The publication of this notice opens a period for public comment on the proposed Consent Decree. Comments should be addressed to the Assistant Attorney General, Environment and Natural Resources Division, and should refer to United States et al. v. Continental Carbon Company, Civil Case. No. 5:15-cv-00290-F (W.D. Okla.), D.J. Ref. No. 90-5-2-1-09729. All comments must be submitted no later than thirty (30) days after the publication date of this notice. Comments may be submitted either by email or by mail:

To submit comments: | Send them to:
By email | pubcomment-ees.enrd@usdoj.gov
By mail | Assistant Attorney General, U.S. DOJ—ENRD P.O. Box 7611 Washington, DC 20044-7611

During the public comment period, the proposed Consent Decree may be examined and downloaded at this Justice Department Web site: http://www.usdoj.gov/enrd/Consent_Decrees.html. The Justice Department will provide a paper copy of the proposed Consent Decree upon written request and payment of reproduction costs. Please mail your request and payment to: Consent Decree Library, U.S. DOJ—ENRD, P.O. Box 7611, Washington, DC 20044-7611.

Please enclose a check or money order for $26.75 (25 cents per page reproduction cost) payable to the United States Treasury.

Thomas Carroll,
Assistant Section Chief, Environmental Enforcement Section, Environment and Natural Resources Division.

[FR Doc. 2015-07015 Filed 3-26-15; 8:45 am]

BILLING CODE 4410-15-P